DEPARTMENT OF HEALTH AND HUMAN SERVICES

Centers for Disease Control and Prevention

Disease, Disability, and Injury Prevention and Control Special Emphasis Panel: Sleep Disorders Research

In accordance with section 10(a)(2) of the Federal Advisory Committee Act (Public Law 92-463), the Centers for Disease Control and Prevention (CDC) announces the following meeting:

Name: Disease, Disability, and Injury Prevention and Control Special Emphasis Panel (SEP): Sleep Disorders Research.

Times and Dates: 2:00 p.m.-2:30 p.m., July 23, 2002 (Open); 2:40 p.m.-4:00 p.m., July 23, 2002 (Closed).

Place: Teleconference number (513) 841-4560.

Status: Portions of the meeting will be closed to the public in accordance with provisions set forth in section 552b(c) (4) and (6), Title 5 U.S.C., and the Determination of the Director, Management Analysis and Services Office, CDC, pursuant to Public Law 92-463.

Matters to be Discussed: The meeting will include the review, discussion, and evaluation of applications received in response to a FY02 Congressional appropriation.

Contact Person for More Information: Kathleen Goedel, National Institute for Occupational Safety and Health, CDC, 4676 Columbia Parkway Cincinnati, OH., telephone (513) 841-4560.

The Director, Management Analysis and Services Office has been delegated the authority to sign Federal Register notices pertaining to announcements of meetings and other committee management activities, for both the Centers for Disease Control and Prevention and the Agency for Toxic Substances and Disease Registry.

Dated: July 2, 2002.
Joe Salter,
Acting Director, Management Analysis and Services Office, Centers for Disease Control and Prevention (CDC).

[FR Doc. 02-17101 Filed 7-5-02; 8:45 am]

BILLING CODE 4163-19-P